NUCLEAR REGULATORY COMMISSION

[Docket No. 50-341; ASLBP No. 14-933-01-LR-BD01]

DTE Electric Company; Establishment of Atomic Safety and Licensing Board

Pursuant to delegation by the Commission dated December 29, 1972, see 37 FR 28710 (1972), and the Commission's regulations, see, e.g., 10 CFR 2.104, 2.105, 2.300, 2.309, 2.313, 2.318, and 2.321, notice is hereby given that an Atomic Safety and Licensing Board (Board) is being established to preside over the following proceeding:

DTE Electric Company (Fermi Nuclear Power Plant, Unit 2)

This proceeding involves an application by DTE Electric Company to renew for twenty years its operating license for Fermi Nuclear Power Plant, Unit 2, located near Frenchtown Township, Michigan. The current operating license for Fermi Nuclear Power Plant, Unit 2, expires on March 20, 2025. In response to a notice published in the Federal Register, see 79 FR 34787 (June 18, 2014), requests for hearings have been filed on behalf of the following entities: Citizens' Resistance at Fermi 2 (CRAFT); Don't Waste Michigan; Citizens Environment Alliance of Southwestern Ontario; and Beyond Nuclear.

The Board is comprised of the following administrative judges:

Ronald M. Spritzer, Chairman, Atomic Safety and Licensing Board Panel, U.S. Nuclear Regulatory Commission, Washington, DC 20555-0001.

Dr. Paul B. Abramson, Atomic Safety and Licensing Board Panel, U.S. Nuclear Regulatory Commission, Washington, DC 20555-0001.

Nicholas G. Trikouros, Atomic Safety and Licensing Board Panel, U.S. Nuclear Regulatory Commission, Washington, DC 20555-0001.

All correspondence, documents, and other materials shall be filed in accordance with the NRC E-Filing rule. See 10 CFR 2.302.

Issued at Rockville, Maryland, this 28th day of August 2014.
E. Roy Hawkens,
Chief Administrative Judge, Atomic Safety and Licensing Board Panel.

[FR Doc. 2014-21212 Filed 9-4-14; 8:45 am]

BILLING CODE 7590-01-P